POSTAL REGULATORY COMMISSION

[Docket No. R2024-1; Order No. 6730]

Market Dominant Price Adjustment

AGENCY: Postal Regulatory Commission.

ACTION: Notice.

SUMMARY: The Commission is recognizing a recently filed Postal Service notice of inflation-based rate adjustments affecting market dominant domestic and international products and services, along with proposed classification changes. This notice informs the public of the filing, invites public comment, and takes other administrative steps.

DATES: Comments are due: November 6, 2023.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Overview of the Postal Service's Filing

III. Initial Administrative Actions

IV. Ordering Paragraphs

I. Introduction

On October 6, 2023, the Postal Service filed a notice of price adjustments affecting Market Dominant domestic and international products and services, along with proposed classification changes to the Mail Classification Schedule (MCS).¹ The intended effective date for the planned price adjustments is January 21, 2024. Notice at 1. The Notice, which was filed pursuant to 39 CFR part 3030, triggers a notice-and-comment proceeding. 39 CFR 3030.125.

¹ United States Postal Service Notice of Market-Dominant Price Change, October 6, 2023 (Notice).

II. Overview of the Postal Service's Filing

The Postal Service's filing consists of the Notice, which the Postal Service represents addresses data and information required under 39 CFR 3030.122 and 39 CFR 3030.123; three attachments (Attachments A-C) to the Notice; and six public library references and one non-public library reference.

Attachment A presents the planned price and related product description changes to the MCS. Notice, Attachment A. Attachments B and C address workshare discounts and the price cap calculation, respectively. Id. Attachments B and C.

The first five public library references provide supporting documentation for the five classes of mail, and the sixth public library reference shows the banked rate adjustment authority for each class of mail over the last five years.² The Postal Service also filed a library reference pertaining to the two international mail products within First-Class Mail (Outbound Single-Piece First-Class Mail International and Inbound Letter Post) under seal and applied for non-public treatment of those materials.³

² United States Postal Service Notice of Filing Workpapers/Library References, October 6, 2023, at 2.

³ USPS Notice of Filing First-Class Mail International and Inbound Letter Post Workpapers, as well as Application for Non-Public Treatment of Materials Filed Under Seal, October 6, 2023, at 1, Attachment 1.

The Postal Service's planned percentage changes by class are, on average, as follows:

Market dominant class | Planned price adjustment (%)
First-Class Mail | 1.969
USPS Marketing Mail | 1.961
Periodicals | 1.959
Package Services | 1.960
Special Services | 2.168

Notice at 5. Price adjustments for products within classes vary from the average. See, e.g., id. at 6, 10 (Table 6 showing range for First-Class Mail products and Table 9 showing range for USPS Marketing Mail products). The Postal Service identifies the effect of its proposed classification changes on the MCS in Attachment A. Id. at 21; id. Attachment A.

III. Initial Administrative Actions

Pursuant to 39 CFR 3030.124(a), the Commission establishes Docket No. R2024-1 to consider the planned price adjustments for Market Dominant postal products and services, as well as the related classification changes, identified in the Notice. The Commission invites comments from interested persons on whether the Postal Service's planned price adjustments are consistent with applicable statutory and regulatory requirements. 39 CFR 3030.125. The applicable statutory and regulatory requirements the Commission considers in its review are the requirements of 39 CFR part 3030, Commission directives and orders, and 39 U.S.C. 3626, 3627, and 3629. 39 CFR 3030.126(b). Comments are due no later than November 6, 2023. 39 CFR 3030.124(f). The Commission will not accept late-filed comments as it is not practicable due to the expedited timeline for this proceeding. See 39 CFR 3030.126(b).

The public portions of the Postal Service's filing are available for review on the Commission's website (http://www.prc.gov). Comments and other material filed in this proceeding will be available for review on the Commission's website, unless the information contained therein is subject to an application for non-public treatment. The Commission's rules on non-public materials (including access to documents filed under seal) appear in 39 CFR part 3011.

Pursuant to 39 U.S.C. 505, the Commission appoints John Avila to represent the interests of the general public (Public Representative) in this proceeding.

IV. Ordering Paragraphs

It is ordered:

1. The Commission establishes Docket No. R2024-1 to consider the planned price adjustments for Market Dominant postal products and services, as well as the related classification changes, identified in the Postal Service's October 6, 2023 Notice.

2. Comments on the planned price adjustments and related classification changes are due no later than November 6, 2023.

3. Pursuant to 39 U.S.C. 505, John Avila is appointed to serve as an officer of the Commission to represent the interests of the general public (Public Representative) in this proceeding.

4. The Commission directs the Secretary of the Commission to arrange for prompt publication of this notice in the Federal Register.

By the Commission.
Erica A. Barker,
Secretary.

[FR Doc. 2023-22798 Filed 10-16-23; 8:45 am]

BILLING CODE 7710-FW-P